DEPARTMENT OF COMMERCE

International Trade Administration

Notice With Respect to Modification of Tariff Rate Quotas on the Import of Certain Worsted Wool Fabrics

AGENCY: Department of Commerce, International Trade Administration.

ACTION: Notice.

SUMMARY: The Department of Commerce hereby provides notice that it has received no requests for the modification of the limitations on the quantity of imports of certain worsted wool fabric under the 2003 tariff rate quotas established by the Trade and Development Act of 2000, as amended by the Trade Act of 2002. The Department therefore will not consider modification of these limitations.

FOR FURTHER INFORMATION CONTACT: Sergio Botero, Office of Textiles and Apparel, U.S. Department of Commerce, (202) 482-4058.

SUPPLEMENTARY INFORMATION:

Background

Title V of the Trade and Development Act of 2000 (the Act of 2000) creates two tariff rate quotas, providing for temporary reductions in the import duties on two categories of worsted wool fabrics suitable for use in making suits, suit-type jackets, or trousers. For worsted wool fabric with average fiber diameters greater than 18.5 microns (Harmonized Tariff Schedule of the United States (HTS) heading 9902.51.11), the reduction in duty was limited by the Act of 2000 to 2,500,000 square meter equivalents per year. This limitation was amended by Section 5102 of the Trade Act of 2002 to 3,500,000 square meters equivalents in calendar year 2002 and 4,500,000 square meter equivalents in calendar years 2003 through 2005. For worsted wool fabric with average fiber diameters of 18.5 microns or less (HTS heading 9902.51.12), the reduction was limited by the Act of 2000 to 1,500,000 square meter equivalents per year. This limitation was amended by Section 5102 of the Trade Act of 2002 to 2,500,000 square meters equivalents in calendar year 2002 and 3,500,000 square meter equivalents in calendar years 2003 through 2005.

The Act requires the annual consideration of requests by U.S. manufacturers of men's or boys' worsted wool suits, suit-type jackets and trousers for modification of the limitation on the quantity of fabric that may be imported under the tariff rate quotas, and grants the President the authority to proclaim modifications to the limitations not to exceed 1,000,000 square meter equivalents per year for each tariff rate quota. Authority to consider such requests was delegated to the Secretary of Commerce in Presidential Proclamation 7383 (December 1, 2000). On January 22, 2001, the Department published regulations establishing procedures for considering requests for modification of the limitations (66 FR 6459, 15 CFR 340).

On September 25, 2002, the Department published a notice in the Federal Register soliciting requests for modification of the limitation on the quantity of imports under the 2003 tariff rate quotas (67 FR 60224). No requests were received in response to this solicitation. As a result, the Department will not consider modification of these limits.

Dated: October 24, 2002.
D. Michael Hutchinson,
Acting Deputy Assistant Secretary for Textiles, Apparel and Consumer Goods Industries.

[FR Doc.02-27531 Filed 10-29-02; 8:45 am]

BILLING CODE 3510-DR-S